Title 3—

The President

Proclamation 9293 of June 11, 2015

National Week of Making, 2015

By the President of the United States of America

A Proclamation

American ingenuity has always powered our Nation and fueled economic growth. Our country was built on the belief that with hard work and passion, progress is within our reach, and it is because of daring innovators and entrepreneurs who have taken risks and redefined what is possible that we have been able to realize this promise. Makers and builders and doers—of all ages and backgrounds—have pushed our country forward, developing creative solutions to important challenges and proving that ordinary Americans are capable of achieving the extraordinary when they have access to the resources they need. During National Week of Making, we celebrate the tinkerers and dreamers whose talent and drive have brought new ideas to life, and we recommit to cultivating the next generation of problem solvers.

My Administration is committed to spurring manufacturing, innovation, and entrepreneurship by expanding opportunities for more Americans to build products and bring them to market. Across the Federal Government, we are working to increase access to capital, maker spaces, and equipment to design, develop, and prototype ideas. By investing in regional manufacturing hubs, we are bringing together private industry, leading universities, and public agencies to develop cutting-edge technology and train workers in the skills they need for the next generation of innovation. To continue to build a Nation of makers, we are committed to engaging students at every level in the hands-on learning of science, technology, engineering, and mathematics (STEM) to inspire them to pursue their own passions and excel in STEM fields.

Last year, at the first-ever White House Maker Faire, I called on leaders around our Nation to join in sparking a grassroots renaissance in American making and manufacturing. Since then, more than 100 cities have stepped up, taking action to increase access to the tools and support that help today's dreamers solve pressing local and global problems, launch their own businesses, and create vibrant communities. By making it easier for students to learn 21st-century design and fabrication skills and by broadening opportunities for making in communities across our country, we can unleash a new era of jobs and entrepreneurialism in manufacturing, transform industries, and usher the products of tomorrow to markets today. As the maker movement grows, I continue to call on all Americans to help unlock the potential of our Nation and ensure these opportunities reach all our young people, regardless of who they are or where they come from.

America's path of experimentation, innovation, and discovery has been the hallmark of our progress. We are heirs to an extraordinary legacy of ingenuity—our country is home to pioneers who imagined a railroad connecting a continent, inventors who believed electricity could power our cities and towns, explorers who dared to leave our planet and travel farther than ever before, and innovators who brought us closer together through the Internet. This story is central to who we are as a people, and today, we have the opportunity to write the next great chapter. This week, let us renew our resolve to harness the potential of our time—the technology, opportunity, and talent of our people—and empower all of today's thinkers, makers, and dreamers.

NOW, THEREFORE, I, BARACK OBAMA, President of the United States of America, by virtue of the authority vested in me by the Constitution and the laws of the United States, do hereby proclaim June 12 through June 18, 2015, as National Week of Making. I call upon all Americans to observe this week with programs, ceremonies, and activities that encourage a new generation of makers and manufacturers to share their talents and hone their skills.

IN WITNESS WHEREOF, I have hereunto set my hand this eleventh day of June, in the year of our Lord two thousand fifteen, and of the Independence of the United States of America the two hundred and thirty-ninth.

[FR Doc. 2015-14980

Filed 6-15-15; 11:15 am]

Billing code 3295-F5